DEPARTMENT OF THE INTERIOR

Fish and Wildlife Service

Notice of Availability of the Draft Revised Recovery Plan for the Apache Trout (Oncorhynchus apache)

AGENCY: Fish and Wildlife Service, Interior.

ACTION: Notice of document availability.

SUMMARY: The U.S. Fish and Wildlife Service (Service) announces the availability for public review of the draft revised Recovery Plan for the Apache trout (Oncorhynchus apache). The Apache trout currently inhabits the upper Salt River and Little Colorado River drainages in Arizona. The Service solicits review and comment from the public on this draft revised Recovery Plan. The Service will also accept any new information received during the comment period to complete its 5-year review of the Apache trout.

DATES: The comment period for this draft revised Recovery Plan (Recovery Plan) closes September 25, 2007. Comments on the Recovery Plan must be received by the closing date to ensure consideration.

ADDRESSES: Persons wishing to review the Recovery Plan can obtain a paper or CD copy from the Arizona Fishery Resources Office, U.S. Fish and Wildlife Service, P.O. Box 39, Pinetop, Arizona 85935, telephone 928/338-4288, facsimile 928/338-4763, e-mail: Stewart_Jacks@fws.gov. The Recovery Plan may also be obtained from the Internet at http://www.fws.gov/endangered by selecting “Species Search” from the left-side menu bar and entering the species' name in the “Search Species” text box. If you wish to comment on the Recovery Plan, you may submit your comments and materials to the Arizona Fishery Resources Office.

FOR FURTHER INFORMATION CONTACT: Stewart Jacks, Project Leader, at the Pinetop address above.

SUPPLEMENTARY INFORMATION:

Background

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing recovery plans.

The Service is also conducting a 5-year review for Apache trout under section 4(c)(2)(A) of the Act. A 5-year review is a periodic process, based on the best scientific and commercial data available at the time of the review, conducted to ensure that the classification of a species as threatened or endangered on the List of Endangered and Threatened Species (List) is accurate. We initiated the 5-year review for Apache trout on April 21, 2006 (71 FR 20714). Because the Service has not yet completed this review, we will use any new information received during the comment period for the revised Recovery Plan to complete the 5-year review for Apache trout. Based on the results of the 5-year review, we will make a recommendation whether the Apache trout should retain its current classification as threatened, be reclassified to endangered, or removed from the List (delisted). The Service will undertake a separate rulemaking process if the Apache trout is to be reclassified or delisted.

The document submitted for review is the revised Recovery Plan for the Apache trout. Currently, the Apache trout is believed to occur in a 190 km (118 mi) reach of the upper Salt River and Little Colorado River drainages in Arizona. The species was listed as federally endangered in 1967 (32 FR 4001) and reclassified to threatened in 1975 (40 FR 29863). Critical habitat has not been designated. Throughout much of its historic range, the decline of the Apache trout may be attributed to destruction, drastic modification, or severe curtailment of its habitat and hybridization with introduced trout species.

The Recovery Plan includes scientific information about the species and provides criteria and actions needed to delist (recover) the species. Delisting of the species may be considered when 30 self-sustaining populations that maintain, to the maximum extent practicable, the remaining genetic diversity of the species have been established within historical range and threats to the populations have been identified, assessed, and ameliorated. Recovery actions designed to achieve this criterion include: (1) Complete any regulatory compliance required under the National Environmental Policy Act, Clean Water Act, or other applicable legislation to implement recovery actions; (2) Construct new fish barriers and maintain existing fish barriers; (3) Remove or minimize undesirable fish using piscicides or other feasible means in all or portions of recovery streams; (4) Establish and maintain 30 self-sustaining populations of pure Apache trout; and, (5) Monitor all populations.

The original Apache trout Recovery Plan was finalized in 1979 and revised in 1983. This draft revised Recovery Plan retains the 1983 criterion to establish and maintain 30 self-sustaining populations; however, it limits recovery populations to those within historic range. It also includes additional objectives to ameliorate threats relative to the five listing factors. The revised recovery strategy allows for the use of hatchery propagated Apache trout to repatriate a renovated and secured stream if such populations cannot be established by moving fish from a relict or replicated population. A post-delisting management plan will incorporate genetic considerations.

The Recovery Plan is being submitted for review to all interested parties. Peer review will be conducted concurrent with public review. After consideration of comments received during the public and peer review period, the Recovery Plan will be submitted for final approval.

Public Comments Solicited

The Service solicits written comments on the Recovery Plan described. All comments received by the date specified above will be considered prior to approval of the final Recovery Plan and new information will also be used to complete the 5-year review.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is Section 4(f) of the Endangered Species Act, 16 U.S.C. 1533(f).

Dated: June 28, 2007.
Benjamin N. Tuggle,
Regional Director, Region 2.

[FR Doc. E7-14550 Filed 7-26-07; 8:45 am]

BILLING CODE 4310-55-P